DEPARTMENT OF HEALTH AND HUMAN SERVICES

National Institutes of Health

National Heart, Lung, and Blood Institute; Amended Notice of Meeting

Notice is hereby given of a change in the meeting of the National Heart, Lung, and Blood Institute Special Emphasis Panel, April 14, 2020, 08:30 a.m. to April 14, 2020, 04:00 p.m., The William F. Bolger Center, 9600 New Bridge Drive, Potomac, MD 20854 which was published in the Federal Register on March 04, 2020, 85 FR 12799.

The NHLBI Special Emphasis Panel meeting is being amended due to a change in the meeting format. This one day meeting to be held on April 14, 2020 will be a teleconference meeting. The meeting is closed to the public.

Dated: March 16, 2020.
Ronald J. Livingston, Jr.,
Program Analyst, Office of Federal Advisory Committee Policy.

[FR Doc. 2020-05819 Filed 3-19-20; 8:45 am]

BILLING CODE 4140-01-P